EXPORT-IMPORT BANK OF THE UNITED STATES

Economic Impact Policy

This notice is to inform the public that the Export-Import Bank of the United States has received an application for a $47 million long-term guarantee to support the export of approximately $41 million worth of mining equipment and services to Australia. The U.S. exports will enable the Australian mining company to produce, on average, 36 million metric tons of iron ore per year during the 7-year repayment term of the guarantee. Available information indicates that new Australian production of iron ore will be sold in China. Interested parties may submit comments on this transaction by e-mail to economic.impact@exim.gov or by mail to 811 Vermont Avenue, NW., Room 947, Washington, DC 20571, within 14 days of the date this notice appears in the Federal Register.

Jonathan J. Cordone,
Senior Vice President and General Counsel.

[FR Doc. 2011-11895 Filed 5-13-11; 8:45 am]

BILLING CODE 6690-01-P